DEPARTMENT OF DEFENSE

Office of the Secretary

[Docket ID: DoD-2024-HA-0004]

Proposed Collection; Comment Request

AGENCY: Office of the Assistant Secretary of Defense for Health Affairs (OASD(HA)), Department of Defense (DoD).

ACTION: 60-Day information collection notice.

SUMMARY: In compliance with the Paperwork Reduction Act of 1995, the Defense Health Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 11, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: Women's Reproductive Health Care Provider Survey (WRHCPS); OMB Control Number: 0720-WRHS.

Needs and Uses: Health care provider knowledge, beliefs, and practices may have an impact on active-duty service women's (ADSW) access to contraception and overall reproductive health. The proposed survey is devised to be a sufficiently large and representative sample of the diverse professionals who provide reproductive and contraceptive care to ADSW at health care visits (e.g., readiness visits, pre-deployment, and during deployment). The survey will be designed to capture provider self-reported beliefs, clinical knowledge on reproductive health care (including contraceptive counseling) and prescription of contraception care for and during deployment. Data and analysis from the survey will enable DoD to evaluate, enhance, and where needed, improve reproductive services delivery and educational interventions; provide a strong basis for planning policy and services related to ADSW's reproductive and contraceptive health; and provide data, programs, and details necessary for replication and peer review. In addition, the proposed one-time survey meets a Congressional mandate and serves as an appropriate follow-up to the WRHS by determining whether identified gaps in contraceptive access are the result of provider knowledge and attitudes. The 116-48 SASC Report for FY2020 required DoD to conduct a survey to better understand provider knowledge and beliefs related to provision of contraceptives to ADSW. The target population of the survey includes uniformed (active component only) and civilian MHS personnel.

Affected Public: Federal Government employees.

Annual Burden Hours: 709.

Number of Respondents: 2,128.

Responses per Respondent: 1.

Annual Responses: 2,128.

Average Burden per Response: 20 minutes.

Frequency: Once.

Dated: January 3, 2024.
Aaron T. Siegel,
Alternate OSD Federal Register Liaison Officer, Department of Defense.

[FR Doc. 2024-00261 Filed 1-8-24; 8:45 am]

BILLING CODE 6001-FR-P